DEPARTMENT OF COMMERCE

International Trade Administration

(A-201-802)

Extension of Time Limit for Preliminary Results and Final Results of the Full Sunset Review of the Antidumping Duty Order on Gray Portland Cement and Clinker from Mexico

AGENCY: Import Administration, International Trade Administration, U.S. Department of Commerce.

EFFECTIVE DATES: January 18, 2006.

FOR FURTHER INFORMATION CONTACT: Zev Primor at 202-482-4114 or Edythe Artman at 202-482-3931, Import Administration, International Trade Administration, U.S. Department of Commerce, 14th Street & Constitution Avenue, NW, Washington, DC 20230.

SUPPLEMENTARY INFORMATION:

Extension of Time Limits

In accordance with section 751(c)(5)(B) of the Tariff Act of 1930, as amended (the Act), the U.S. Department of Commerce (the Department) may extend the period of time for making its determination by not more than 90 days, if it is determines that the sunset review is extraordinarily complicated. As set forth in 751(c)(4)(C)(v) of the Act, the Department may treat a sunset review as extraordinarily complicated if it is a review of a transition order. The sunset review subject to this notice is a review of a transition order. Therefore, Department has determined, pursuant to section 751(c)(5)(C)(v) of the Act, that this sunset review is extraordinarily complicated and will require additional time for the Department to complete its analysis.

The Department's preliminary results of this full sunset review was scheduled for January 23, 2006, and the final results was scheduled for May 31, 2006. They are now being extended until April 24, 2006, and August 29, 2006, respectively. These dates are 90 days from the originally scheduled dates of the preliminary and final results of this sunset review.

This notice is issued in accordance with sections 751(c)(5)(B) and (C)(v) of the Act.

Dated: January 11, 2006.
Stephen J. Claeys,
Deputy Assistant Secretary for Import Administration.

[FR Doc. 06-455 Filed 1-17-06; 8:45 am]

BILLING CODE 3510-DS-S